NUCLEAR REGULATORY COMMISSION

Reactor Oversight Process Initial Implementation Evaluation Panel Meeting Notice

Pursuant to the Federal Advisory Committee Act of October 6, 1972 (Pub. L., 94-463, Stat. 770-776) the U.S. Nuclear Regulatory Commission (NRC), on October 2, 2000, announced the establishment of the Reactor Oversight Process Initial Implementation Evaluation Panel (IIEP). The IIEP will function as a cross-disciplinary oversight group to independently monitor and evaluate the results of the first year of implementation of the Reactor Oversight Process (ROP). A Charter governing the IIEP functions as a Federal Advisory Committee is being filed on October 16, 2000, after consultation with the Committee Management Secretariat, General Services Administration. The IIEP will hold its first meeting on November 1-2, 2000, in Conference Room T-8A1, Nuclear Regulatory Commission, 11545 Rockville Pike, Rockville, Maryland.

The IIEP meeting participants are listed below along with their affiliation:

A. Randolph Blough—U.S. Nuclear Regulatory Commission

R. William Borchardt—U.S. Nuclear Regulatory Commission

Kenneth Brockman—U.S. Nuclear Regulatory Commission

Steve Floyd—Nuclear Energy Institute

David Garchow—PSEG Nuclear LLC

Richard Hill—Southern Nuclear Operating Company

Rod Krich—Commonwealth Edison Company

Robert Laurie—California Energy Commission

David Lochbaum—Union of Concerned Scientists

James Moorman, III—U.S. Nuclear Regulatory Commission

Loren Plisco—U.S. Nuclear Regulatory Commission

Steven Reynolds—U.S. Nuclear Regulatory Commission

A. Edward Scherer—Southern California Edison Company

James Setser—Georgia Department of Natural Resources

James Trapp—U.S. Nuclear Regulatory Commission

A tentative agenda of the meeting is outlined as follows:

November 1, 2000

1:00-1:20—Welcome & Opening Remarks

—Introduction of Committee Members

1:20-1:40—Role of Independent Advisory Committees

1:40-2:00—Legal Requirements of FACA Committees

2:00-3:00—IIEP Charter

—Discussion of Proposed Bylaws

3:00-3:15—Break

3:15-3:30—Administrative Support for FACA Committee

3:30-3:45—Lessons Learned and Best Practices from the Pilot Program Evaluation Panel

3:45-4:00—Current Status of the Reactor Oversight Process

4:00-5:00—Overview of Staff Performance Measures

Thursday, November 2, 2000

8:00-10:15—Detailed Discussion of Staff Performance Measures

10:15-10:30—Break

10:30-12:00—Detailed Discussion of Staff Performance Measures

12:00-12:45—Lunch

12:45-3:15—IIEP Discussion on Acceptability of Staff Performance Measures

3:15-3:30—Break

3:30-4:30—Agenda Planning

Meetings of the IIEP are open to the members of the public. Formal procedures for the conduct of the Panel meetings will be developed during the November 1-2, 2000 meeting. In the interim, at the November 1-2, 2000, meeting, oral or written views may be presented by the members of the public, including members of the nuclear industry. Persons desiring to make oral statements should notify Mr. Loren R. Plisco (Telephone 404/562-4501, e-mail LRP@nrc.gov) or Mr. John D. Monninger (Telephone 301/415-3495, e-mail JDM@nrc.gov) five days prior to the meeting date, if possible, so that appropriate arrangements can be made to allow necessary time during the meeting for such statements. Use of still, motion picture, and television cameras will be permitted during this meeting.

Further information regarding topics of discussion; whether the meeting has been canceled, rescheduled, or relocated; and the Panel Chairman's ruling regarding requests to present oral statements and time allotted, may be obtained by contacting Mr. Loren R. Plisco or Mr. John D. Monninger between 8:00 a.m. and 4:30 p.m. EDT.

IIEP meeting transcripts and meeting reports will be available from the Commission's Public Document Room. Transcripts will be placed on the agency's web page when a web site for the IIEP is established.

Dated: October 12, 2000.
Andrew Bates,
Advisory Committee Management Officer.

[FR Doc. 00-26760 Filed 10-17-00; 8:45 am]

BILLING CODE 7590-01-P